FEDERAL RESERVE SYSTEM

Formations of, Acquisitions by, and Mergers of Bank Holding Companies; Correction

This notice corrects a notice (FR Doc. 01-54) published on page 371 of the issue for Wednesday, January 3, 2001.

Under the Federal Reserve Bank of Philadelphia heading, the entry for Juniper Financial Corp., Wilmington, Delaware, is revised to read as follows:

A. Federal Reserve Bank of Philadelphia (Michael E. Collins, Senior Vice President) 100 North 6th Street, Philadelphia, Pennsylvania 19105-1521:

1. Juniper Financial Corp., Wilmington, Delaware; to become a bank holding company by acquiring 100 percent of the voting shares of Juniper Bank, Wilmington, Delaware, a de novo bank, and First Bank, CBC, Maryville, Missouri. Juniper bank will be the successor by merger with First Bank.

Comments on this application must be received by February 12, 2001.

Board of Governors of the Federal Reserve System, January 23, 2001.
Robert deV. Frierson
Associate Secretary of the Board.

[FR Doc. 01-2434 Filed 1-26-01; 8:45 am]

BILLING CODE 6210-01-S